DEPARTMENT OF THE INTERIOR

Fish and Wildlife Service

Information Collection Submitted to the Office of Management and Budget (OMB) for Approval under the Paperwork Reduction Act (PRA)

AGENCY: Fish and Wildlife Service, Interior.

ACTION: New information collection—NEPA compliance checklist.

SUMMARY: The U.S. Fish and Wildlife Service (Service) has submitted the collection of information requirement described below to the Office of Management and Budget (OMB) for approval under the provisions of the Paperwork Reduction Act (PRA). You may obtain copies of the collection requirement and related forms and explanatory material by contacting the Service's Information Collection Clearance Officer at the phone number listed below. The Service is soliciting comment and suggestions on the requirement as described below.

DATES: Consideration will be given to all comments received on or before January 11, 2001. OMB has up to 60 days to approve or disapprove an information collection, but may respond after 30 days. Therefore to ensure maximum consideration, OMB should receive public comments by the above referenced date.

ADDRESSES: Interested parties should send comments and suggestions on the requirement to the Office of Information and Regulatory Affairs, Office of Management and Budget, Attn: Interior Desk Officer (1018-XXXX), New Executive Office Building, 725 17th Street, NW., Washington, DC 20503 and they should send a copy of the comments to: Rebecca A. Mullin, Information Collection Clearance Officer, U.S. Fish and Wildlife Service, 4401 North Fairfax Drive, Suite 222, Arlington, VA 22203, (703) 358-2278 or Rebecca_Mullin@fws.gov E-mail.

FOR FURTHER INFORMATION CONTACT: Jack Hicks, (703) 358-1851, fax (703) 358-1837, or Jack_Hicks@fws.gov E-mail.

SUPPLEMENTARY INFORMATION: The OMB regulations at 5 CFR 1320, which implement the provisions of the Paperwork Reduction Act of 1995 (Pub. L. 104-13), require that interested members of the public have the opportunity to comment on information and record keeping activities.

On September 1, 2000 the Director of the U.S. Fish and Wildlife Service signed Director's Order No. 127 establishing policy and procedures for the preparation of an administrative record for complying with the requirements of the National Environmental Policy Act (NEPA) by Service personnel who administer Federal financial assistance programs. This record was developed in the form 3-2185 adopted by the Service as the NEPA Compliance Checklist.

On September 12, 2000 the Service published in the Federal Register (FR Vol. 65, No. 177, p55032) a 60 day notice and request for public comment on this information collection. That comment period ended on November 13, 2000. We received the following comments from this earlier notice.

1. One private individual E-mailed asking where she could get copies of the form and supporting information.

Response: She was referred by return E-mail to the Service's Home Page with directions for navigation to the Director's Order. A sample of the new form was attached to the E-mail response.

2. A State employee E-mailed the following comments.

A. The wording on Item 6 is so broad that almost anything could be categorically excluded (2 examples were included with the comment), please remove this Item.

B. Categorical exclusions are classes of actions which do not individually or cumulatively have a significant effect on the human environment. The wording for Item 6 carries this to a new level that will cause confusion and unnecessary writing of EA's.

Response to both: The language in item 6 in the NEPA Compliance Checklist is not new to the Service. It has been a requirement in the Council on Environmental Quality regulations since 1978, and in the Departmental Manual (516 DM 2, App 2.6) since (at least) September 26, 1984. This requirement has been referenced in the Service's NEPA Manual since 1984. The intent is clear, Federal Agencies must address cumulative impacts of their actions. Your concern is how broadly (or how stringently) this is interpreted, particularly when it exists as an exception to a categorical exclusion. The Service has no absolute requirement as to when a categorical exclusion or an exception apply, it is not possible due to the complexity of our programs. In the past our application of this requirement and the interpretation by the courts of our decisions have been based on a rule of reason. Item 6 stays in the document, but as always, will be applied reasonably to more complex issues. The Service will continue to take a reasonable approach, consistent with NEPA, when determining when to prepare an EA or EIS.

3. A State wrote that they thought the new language was more restrictive than they have been using in the past and explained a process they use currently.

Response: The items on the checklist are the minimum thresholds for initiating either an Environmental Assessment or and Environmental Impact Statement. The process you currently use, the memorandum of understanding between your agency and the State Historic Preservation Office, is not endorsed by the FWS, DOI, or CEQ.

4. Another State wrote that the Service should delay implementation of this checklist until after the Department has issued new manual chapters regarding DOI policy on NEPA.

Response: The checklist spells out the current minimum requirements for NEPA and will be changed to include the new items that may be added to the list by the Department of Interiors policy development process currently underway. What we are doing with the checklist now will gain approval from OMB for use of the checklist and ensure that everyone knows what the current minimum requirements are for NEPA consideration.

No other comments were received.

Description and Use: The Service administers several grant programs authorized by the Federal Aid in Wildlife Restoration Act, the Federal Aid in Sport Fish Restoration Act, the Anadromous Fish Conservation Act, the Endangered Species Act, the Clean Vessel Act, the Sportfishing and Boating Safety Act, North American Wetlands Conservation Act, the Coastal Wetlands Planning, Protection and Restoration Act, and through other Acts and authorities. The Service uses the information collected to make a determination as to National Environmental Policy Act compliance. The State or other grantee uses the checklist as a guide to general NEPA requirements and it becomes an administrative record to meet their assurances requirements for receiving a grant. Grant applicants provide the information requested in the NEPA Compliance Checklist in order to qualify to receive benefits in the form of grants for purposes outlined in the applicable law. This form is designed to cause the minimum impact in the form of hourly burden on grant applicants and still get all the required information. Only about 3 percent of the Service's applicants for either a new grant or for an amendment to an existing grant will meet the criteria, and need to complete the NEPA Compliance Checklist.

Title of Form: NEPA Compliance Checklist

FWS Form Number: 3-2185

OMB Control Number: 1018-XXXX The Service will receive a control number from OMB prior to collecting any information. An agency may not conduct or sponsor and a person is not required to respond to a collection of information unless it displays a currently valid OMB control number.

Supplemental Information: The Service has submitted the following information collection requirements to OMB for review and approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Frequency: Generally annually.

Description of Respondents: State Government, territorial (the Commonwealth of Puerto Rico, the District of Columbia, the Commonwealth of the Northern Mariana Islands, Guam, the Virgin Islands, and American Samoa), local governments, and others receiving grant funds.

Completion Time and Annual Response and Burden Estimate
Form name | Completion time per checklist | Annual response | Annual burden
NEPA Compliance Checklist | ½ Hour | 160 | 80

BILLING CODE 4310-55-M

Dated: November 17, 2000.
Rebecca A. Mullin,
Fish and Wildlife Service Information Collection Clearance Officer.

[FR Doc. 00-31508 Filed 12-11-00; 8:45 am]

BILLING CODE 4310-55-C